Proclamation 8061 of October 3, 2006

German-American Day, 2006

By the President of the United States of America

A Proclamation

Throughout our history, the spirit and hard work of German Americans have been an important part of the cultural fabric of our Nation. On German-American Day, we celebrate German Americans and their many contributions to the character of our country.

Germans were among the first to settle in this great land of promise, and their talent, faith, and strong values helped establish this country as a place of freedom and opportunity. Today, millions of German Americans are adding to the success and prosperity of our Nation as leaders in government, sports, business, science, the arts, and many other fields.

In every generation, German Americans have courageously stepped forward to serve in our country's hour of need. During the Revolutionary War, General Friedrich von Steuben helped train the Continental Army for battle, and in World War II, great men like General Dwight Eisenhower and Admiral Chester Nimitz helped lead the Allied Forces to victory. Our Nation will always be grateful to the many German Americans who have selflessly answered the call to defend liberty and advance the cause of freedom as members of our Armed Forces. The sacrifices of these heroes help preserve the ideals of our country's founding and make the world a safer place.

German-American Day is also an opportunity to recognize the friendship between Germany and the United States. By working together as partners in peace with a mutual commitment to liberty, the United States and Germany can lay the foundation for a more hopeful tomorrow.

NOW, THEREFORE, I, GEORGE W. BUSH, President of the United States of America, by virtue of the authority vested in me by the Constitution and laws of the United States, do hereby proclaim October 6, 2006, as German-American Day. I encourage all Americans to celebrate our Nation's German heritage and the many ways German Americans have enriched and strengthened our country.

IN WITNESS WHEREOF, I have hereunto set my hand this third day of October, in the year of our Lord two thousand six, and of the Independence of the United States of America the two hundred and thirty-first.

[FR Doc. 06-8560

Filed 10-4-06; 11:47 am]

Billing code 3195-01-P